DEPARTMENT OF COMMERCE

National Oceanic and Atmospheric Administration

[I.D. 062002A]

Marine Mammals; Permit No. 358-1564-02, Permit No. 782-1532, File No. 1016-1651, File No. 800-1664, File No. 434-1669, and File No. 881-1668

AGENCY: National Marine Fisheries Service (NMFS), National Oceanic and Atmospheric Administration (NOAA), Commerce.

ACTION: Receipt of applications to amend permits, receipt of applications for scientific research permits, and availability of Environmental Assessment.

SUMMARY: Notice is hereby given of the following actions regarding permits for takes of Steller sea lions (Eumetopias jubatus) for the purposes of scientific research: NMFS has received permit applications from Dr. Glenn VanBlaricom, Washington Cooperative Fish and Wildlife Research Unit, School of Aquatic and Fishery Sciences, University of Washington, Seattle, WA 98195; Dr. Randall Davis, Department of Marine Biology, Texas A&M University, Galveston, TX 77551; the Oregon Department of Fish and Wildlife (ODFW), Corvallis, Oregon 97330 (PI: Robin Brown); and the Alaska SeaLife Center (ASLC), Seward, Alaska 99664 (PI: Don Calkins). NMFS has received applications to amend Permit No. 782-1532, issued to The National Marine Mammal Laboratory (NMML), National Marine Fisheries Service, NOAA, Seattle, WA 98115-0070 (PI: Dr. Thomas Loughlin) and Permit No. 358-1564-02, issued to the Alaska Department of Fish and Game (ADFG), Juneau, Alaska 99802-5526 (PI: Dr. Thomas Gelatt).

DATES: Written or telefaxed comments on the new applications, amendment requests or Environmental Assessment must be received on or before July 29, 2002.

ADDRESSES: The applications, amendment requests and related documents, and the Environmental Assessment are available for review upon written request, by downloading from the internet, or by appointment in the following office(s):

All documents: Permits, Conservation and Education Division, Office of Protected Resources, NMFS, 1315 East-West Highway, Room 13705, Silver Spring, MD 20910, (301)713-2289, or the Division’s web page at http://www.nmfs.noaa.gov/prot_res/PR1/Permits/pr1permits_review.html .

For permit 782-1532 (NMML) and Files No. 1016-1651 (Univ. of Washington) and 434-1669 (ODFW): Northwest Region, NMFS, 7600 Sand Point Way NE, BIN C15700, Bldg. 1, Seattle, WA 98115-0700,(206)526-6150; and

For permits 782-1532 (NMML), 358-1564-02 (ADFG) and Files No. 1016-1651 (Univ. of Washington), 800-1664 (Davis), and 881-1668 (ASLC): Alaska Region, NMFS, P.O. Box 21668, Juneau, AK 99802-1668,(907)586-7221.

FOR FURTHER INFORMATION CONTACT: Tammy Adams or Ruth Johnson, 301/713-2289.

SUPPLEMENTARY INFORMATION: The subject permits and amendments are requested under the authority of the Marine Mammal Protection Act of 1972, as amended (MMPA; 16 U.S.C. 1361 et seq.), the Regulations Governing the Taking and Importing of Marine Mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

Applications to Amend Permits

A notice of receipt for a major amendment to Permit No. 358-1564-00, issued to Alaska Department of Fish and Game on June 28, 2000 (65 FR 39878) was published on July 5, 2001 (66 FR 35412). Permit No. 358-1564-00 authorizes the permit holder to take Steller sea lions of all ages and both sexes over a 5-year period in Alaska and British Columbia by aerial/boat surveys, capturing, handling, tagging, blood/biopsy sampling, and branding. The permit holder requested authorization to: administer Evans blue dye, collect additional blood and tissue samples from, and attach scientific instruments to Steller sea lions already authorized to be captured and handled, and increase the frequency of aerial surveys and recaptures for purposes of scientific research. Subsequent to publication of the Notice of Receipt to amend this permit, the Permit Holder submitted supplementary information and requests for additional modifications to the permit, including an increase in the number of accidental mortalities.

A notice of receipt for a major amendment to Permit No. 782-1532, issued to NMFS, National Marine Mammal Laboratory on January 14, 2000 (65 FR 2383) was published on June 8, 2001 (66 FR 30885). Permit No. 782-1532-01 authorizes the permit holder to take Steller sea lions of all ages and both sexes over a 5-year period in Alaska, California, Washington, and Oregon by aerial/boat surveys, capturing, handling, tagging, blood/biopsy sampling, and branding. The permit holder requested authorization to: increase the frequency of takes by aerial surveys; include Southeast Alaska in monthly surveys; increase the number of animals to be incidentally harassed during scat collection; and allow additional procedures for animals already authorized for capture, including using gas anesthesia, branding of any animal captured, injecting Evan's blue dye and deuterated water, collecting additional blood and tissue samples, and using bioelectric impedance analysis. Subsequent to publication of the Notice of Receipt to amend this permit, the Permit Holder submitted supplementary information and requests for additional modifications to the permit, including an increase in the number of accidental mortalities.

Subsequent to publication of the Notice of Receipt to amend these permits, the NMFS determined that preparation of an Environmental Assessment (EA) was warranted and deferred a decision on these amendment requests pending its completion.

Applications for Permits

Dr. Randall Davis (File No. 800-1664) proposes to take threatened and endangered Steller sea lions in Alaska by capture, anesthesia, hot-branding, tissue sampling (including blood, skin, and blubber), attachment of scientific instruments (video system/data logger and satellite transmitters), and accidental mortality to compare hunting behavior and three-dimensional movements of free-ranging adult females (including pregnant animals) and juveniles of both sexes at various rookeries, as it relates to prey preferences and predator-prey relationships.

Dr. Glenn VanBlaricom (File No. 1016-1641) proposes to take threatened and endangered Steller sea lions in the Aleutian Islands, Gulf of Alaska, and southeast Alaska by remote biopsy darting, incidental harassment, and accidental mortality, to collect blubber samples for analysis to assess prey selection. Some samples will be exported to Canada for analysis. Northern fur seals (Callorhinus ursinus) and harbor seals (Phoca vitulina richardsi) may be incidentally harassed during biopsy sampling.

The Oregon Department of Fish and Wildlife (File No. 434-1669) proposes to take threatened Steller sea lions in California, Washington, and Oregon by capture, hot-branding, flipper tagging, collection of blood and tissue samples from, attachment external scientific instruments to, harassment incidental to these activities and remote monitoring, and accidental mortality. The purpose of the research is to continue monitoring the status of the Alaskan Steller sea lion population and to identify causes of the population decline so as to provide for the population’s recovery.

The Alaska SeaLife Center (File No. 881-1668) proposes to take threatened and endangered Steller sea lions in Alaska by capture, hot-branding, flipper tagging, collection of blood and tissue samples from, attachment of external scientific instruments to, implanting scientific instruments in, holding in captivity for up to 3 months, conducting controlled feeding and endocrinology experiments on, accidental mortality, and harassment incidental to these activities and remote monitoring. The overall purpose of the research is to collect information on the health status, physiology, life history, foraging behavior and habitat use of Steller sea lions.

NOAA environmental review procedure provide that scientific research permits are generally categorically excluded from the National Environmental Policy Act of 1969 (NEPA; 42 U.S.C. 4321 et seq.) requirements to prepare an EA or environmental impact statement (EIS). However, because of the magnitude and intensity of proposed research, which is largely related to the recent funding opportunities, and the intense public interest in this species, NMFS determined that an EA was warranted. For additional information on recent funding, see the notice of availability of funds for the Steller Sea Lion Research Initiative (66 FR 15842). An EA was prepared on the issuance of the proposed permits, resulting in a finding of no significant impact, and is available for review as a companion document to the scientific research permit applications. The EA also considered proposed takes of Steller sea lions by aerial/vessel survey, harassment during scat collection and behavioral observations, as requested in an application for a scientific research permit submitted by the Aleutians East Borough, File No. 1010-1641. A notice of receipt of this application was published on August 22, 2001 (66 FR 44120) and a decision was deferred pending preparation of the EA.

Concurrent with the publication of this notice in the Federal Register, NMFS is forwarding copies of these applications to the Marine Mammal Commission and its Committee of Scientific Advisors.

Dated: June 21, 2002.
Trevor Spradlin,
Acting Chief, Permits, Conservation and Education Division, Office of Protected Resources, National Marine Fisheries Service.

[FR Doc. 02-16283 Filed 6-26-02; 8:45 am]

BILLING CODE 3510-22-S